DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Fetal Alcohol Spectrum Disorders Center for Excellence Project CHOICES Evaluation—New

Since 2001, SAMHSA's Center for Substance Abuse Prevention has been operating the SAMHSA Fetal Alcohol Spectrum Disorders (FASD) Center for Excellence. The purpose of the FASD Center for Excellence is to prevent and improve the treatment of FASD. Some of the activities of the FASD Center include providing training, technical assistance, and subcontracts to increase the use of effective evidence-based interventions.

The FASD Center will be integrating the Project CHOICES program through service delivery organizations and will be evaluating the results. Six sites will implement Project CHOICES with nonpregnant women 18-44 years who are sexually active and who are participating in alcohol treatment (residential or outpatient) or in drug treatment (if the women also use alcohol). Women in substance abuse treatment will be screened and those women that meet the above description will be provided four Motivational Interviewing (MI) sessions (related to alcohol use), plus one contraceptive counseling session. The goal is to help these women prevent an alcohol-exposed pregnancy by abstaining from alcohol and using contraceptive methods of their choice consistently and correctly.

At baseline, an assessment tool will be administered by the counselor to assess drinking, sexual activity, contraceptive use, and demographic information. At the end of the program, women are assessed on their alcohol consumption and contraceptive use in the past 30 days. At 6 months and 12 months after the end of the program, women are assessed on alcohol consumption and contraceptive use using the same core assessment tool used at baseline. All participating sites will maintain personal identification on their clients for service delivery purposes but no such information will be transmitted to SAMHSA.

The data collection is designed to evaluate the implementation of Project CHOICES by measuring whether abstinence from alcohol is achieved and effective birth control practices are performed. Furthermore, the project will include process measures to assess whether and how the intervention was provided.

Estimated Annualized Burden Hours
Screening tool/activity | Number of respondents (6 Sites) | Number of responses per respondent | Average burden per response | Total burden hours per collection
Alcohol Use and Contraceptive Methods Assessment | 913 | 1 | 0.25 | 228
Project CHOICES process evaluation assessing whether sessions were delivered and their duration (75% of baseline) | 684 | 5 | 0.08 | 274
Alcohol Use and Contraceptive Methods Assessment: End of program, 6- and 12-month followup (50% of baseline) | 456 | 3 | 0.25 | 342
Total | 2,053 | 9 |  | 844

Send comments to Summer King, SAMHSA Reports Clearance Officer, Room 71-1044, One Choke Cherry Road, Rockville, MD 20857. Written comments should be received within 60 days of this notice.

Dated: November 25, 2008.
Elaine Parry,
Acting Director, Office of Program Services.

[FR Doc. E8-28648 Filed 12-8-08; 8:45 am]

BILLING CODE 4162-20-P